DEPARTMENT OF VETERANS AFFAIRS

Advisory Committee on Former Prisoners of War, Notice of Meeting

The Department of Veterans Affairs (VA) gives notice under Public Law 92-463 that a meeting of the Advisory Committee on Former Prisoners of War will be held on June 5 through June 7, 2000, at the Department of Veterans Affairs, Central Office, 810 Vermont Avenue NW, Room 230, Washington, DC 20420. Each day the meeting will convene at 9 a.m. and end at 4:30 p.m. The meeting is open to the public.

The purpose of the committee is to advise the Secretary of Veterans Affairs on the administration of benefits under Title 38, United States Code, for veterans who are former prisoners of war, and to make recommendations on the needs of such veterans for compensation, health care and rehabilitation.

On June 5, the meeting will begin with an introduction of committee members and dignitaries, a review of Committee reports, an update of activities since the last meeting, and a period for POW veterans and/or the public to address the committee. The Committee will also review the Secretary's response to the April 1999 report of meeting, and receive presentations on the Veterans Benefits Administration and Veterans Health Administration activities. On June 6, the meeting will include an update on the Center for POW Studies, a report from the National Institute of Health on its Mortality/Morbidity Study and a briefing from the Special Panel on Stroke. On June 7, the Committee's Medical and Administrative subcommittees will break out to discuss their activities and report back to the Committee.

Additionally, the Committee will review and analyze the comments discussed throughout the meeting for the purpose of assisting and compiling a final report to be sent to the Secretary.

Members of the public may direct questions or submit prepared statements for review by the Committee in advance of the meeting, in writing only, to Mr. Robert J. Epley, Director, Compensation and Pension Service (21), Department of Veterans Affairs, 810 Vermont Avenue, NW., Washington, DC 20420. Submitted materials must be received by May 31, 2000. A report of the meeting and roster of Committee members may be obtained from Mr. Epley.

Dated: May 11, 2000.
By Direction of the Secretary.
Marvin R. Eason,
Committee Management Officer.

[FR Doc. 00-12705 Filed 5-19-00; 8:45 am]

BILLING CODE 8320-01-M